DEPARTMENT OF HOMELAND SECURITY

Federal Emergency Management Agency

[Docket ID FEMA-2021-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of October 21, 2021 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Kern County, California and Incorporated Areas
Docket No.: FEMA-B-2038
City of Bakersfield | Development Services, 1715 Chester Avenue, Bakersfield, CA 93301.
Unincorporated Areas of Kern County | Kern County Public Works Department, 2700 M Street, Suite 500, Bakersfield, CA 93301.
Boone County, Iowa and Incorporated Areas
Docket Nos.: FEMA-B-2005 and FEMA-B-2045
City of Beaver | City Hall, 121 3rd Street, Beaver, IA 50031.
City of Berkley | Berkley City Hall, 266 284th Street, Perry, IA 50220.
City of Boone | City Hall Building Department, 923 8th Street, Boone, IA 50036.
City of Boxholm | City Hall, 106 Elm Street, Boxholm, IA 50040.
City of Fraser | Fraser City Hall, 1008 157th Street, Boone, IA 50036.
City of Madrid | City Hall, 304 South Water Street, Madrid, IA 50156.
City of Ogden | City Hall, 513 West Walnut Street, Ogden, IA 50212.
City of Pilot Mound | City Hall, 112 Pilot Street, Pilot Mound, IA 50223.
City of Woodward | City Hall, 105 East 2nd Street, Woodward, IA 50276.
Unincorporated Areas of Boone County | Boone County Courthouse, 201 State Street, Boone, IA 50036.
Des Moines County, Iowa and Incorporated Areas
Docket No.: FEMA-B-1910 and FEMA-B-2036
City of Burlington | Development Department, 400 Washington Street, Burlington, IA 52601.
City of Danville | City Hall, 105 West Shepherd Street, Danville, IA 52623.
City of Mediapolis | City Hall, 510 Main Street, Mediapolis, IA 52637.
City of West Burlington | City Hall, 122 Broadway Street, West Burlington, IA 52655.
Unincorporated Areas of Des Moines County | Southeast Iowa Regional Planning Commission, 211 North Gear Avenue, Suite 100, West Burlington, IA 52655.
Iowa County, Iowa and Incorporated Areas
Docket No.: FEMA-B-2018
City of Ladora | City Hall, 806 Pacific Street, Ladora, IA 52251.
City of Marengo | City Hall, 153 East Main Street, Marengo, IA 52301.
City of North English | City Hall, 200 South Main Street, North English, IA 52316.
City of Victor | City Hall, 707 2nd Street, Victor, IA 52347.
City of Williamsburg | City Hall, 210 West State Street, Williamsburg, IA 52361.
Unincorporated Areas of Iowa County | Auditor's Office, 970 Court Avenue, Marengo, IA 52301.
Ottawa County, Michigan (All Jurisdictions)
Docket No.: FEMA-B-2019
Charter Township of Grand Haven | Charter Township Administrative Offices, 13300 168th Avenue, Grand Haven, MI 49417.
Charter Township of Holland | Charter Township Office, 353 North 120th Avenue, Holland, MI 49424.
City of Ferrysburg | City Hall, 17290 Roosevelt Road, Ferrysburg, MI 49409.
City of Grand Haven | City Hall, 519 Washington Avenue, Grand Haven, MI 49417.
City of Holland | City Hall, 270 South River Avenue, Holland, MI 49423.
Township of Olive | Olive Township Office, 6480 136th Avenue, Holland, MI 49424.
Township of Park | Park Township Office, 52 152nd Avenue, Holland, MI 49424.
Township of Port Sheldon | Port Sheldon Township Hall, 16201 Port Sheldon Street, West Olive, MI 49460.
Township of Spring Lake | Township Hall, 101 South Buchanan Street, Spring Lake, MI 49456.
Village of Spring Lake | Village Hall, 102 West Savidge Street, Spring Lake, MI 49456.
Wayne County, Michigan (All Jurisdictions)
Docket No.: FEMA-B-1945
Charter Township of Brownstown | Township Hall, 21313 Telegraph Road, Brownstown, MI 48183.
City of Detroit | Coleman A. Young Municipal Center, 2 Woodward Avenue, Suite 401, Detroit, MI 48226.
City of Ecorse | Albert B. Buday Civic Center, 3869 West Jefferson Avenue, Ecorse, MI 48229.
City of Gibraltar | City Hall, 29450 Munro Avenue, Gibraltar, MI 48173.
City of Grosse Pointe | City Hall, 17147 Maumee Avenue, Grosse Pointe, MI 48230.
City of Grosse Pointe Farms | City Hall, 90 Kerby Road, Grosse Pointe Farms, MI 48236.
City of Grosse Pointe Park | City Hall, 15115 East Jefferson Avenue, Grosse Pointe Park, MI 48230.
City of River Rouge | Civic Center, 10600 West Jefferson Avenue, River Rouge, MI 48218.
City of Riverview | City Hall, 14100 Civic Park Drive, Riverview, MI 48193.
City of Rockwood | City Hall, 32409 Fort Road, Rockwood, MI 48173.
City of Trenton | City Hall, 2800 Third Street, Trenton, MI 48183.
City of Wyandotte | City Hall, 3200 Biddle Avenue, Suite 200, Wyandotte, MI 48192.
Township of Grosse Ile | Township Hall, 9601 Groh Road, Grosse Ile, MI 48138.
Village of Grosse Pointe Shores | Village Offices, 795 Lake Shore Road, Grosse Pointe Shores, MI 48236.
Essex County, Virginia and Incorporated Areas
Docket No.: FEMA-B-2017
Unincorporated Areas of Essex County | Essex County Building and Zoning Department, 202 South Church Lane, Tappahannock, VA 22560.
Gloucester County, Virginia (All Jurisdictions)
Docket No.: FEMA-B-2027
Unincorporated Areas of Gloucester County | Gloucester County Office Building 2, 6489 Main Street, Suite 247, Gloucester, VA 23061.
King and Queen County, Virginia (All Jurisdictions)
Docket No.: FEMA-B-2027
Unincorporated Areas of King and Queen County | King and Queen County Administrator's Office, 242 Allens Circle, Suite L, King and Queen Court House, VA 23085.
New Kent County, Virginia (All Jurisdictions)
Docket No.: FEMA-B-2027
Unincorporated Areas of New Kent County | New Kent County Administration Building, 12007 Courthouse Circle, New Kent, VA 23124.
Yakima County, Washington and Incorporated Areas
Docket No.: FEMA-B-1910
City of Tieton | City Hall, 418 Maple Street, Tieton, WA 98947.
City of Yakima | City Hall, 129 North 2nd Street, Yakima, WA 98901.
Unincorporated Areas of Yakima County | Yakima County Public Services, 128 North 2nd Street, Yakima, WA 98901.

[FR Doc. 2021-14990 Filed 7-13-21; 8:45 am]

BILLING CODE 9110-12-P